GENERAL SERVICES ADMINISTRATION

[OMB Control No. 3090-0040]

Submission for OMB Review; Comment Request Entitled Application for Shipping Instructions and Notice of Availability

AGENCY: Federal Supply Service, GSA.

ACTION: Notice of request for public comments regarding an extension to an existing OMB clearance (3090-0040).

SUMMARY: Under the provisions of the Paperwork Reduction Act of 1995 (44 U.S.C. chapter 35), the Office of Acquisition Policy has submitted to the Office of Management and Budget (OMB) a request to review and approve an extension of a previously approved information collection requirement concerning Application for Shipping Instructions and Notice of Availability.

DATES: Comment Due Date: January 22, 2001.

ADDRESSES: Comments regarding this burden estimate or any other aspect of this collection of information, including suggestions for reducing this burden, should be submitted to: Marjorie Ashby, General Services Administration (MVP), 1800 F Street NW., Washington, DC 20405.

FOR FURTHER INFORMATION CONTACT: Marcia Crockett, Acquisition Operations & Electronic Commerce Center, Supply Management Division, (703) 305-7551.

SUPPLEMENTARY INFORMATION:

A. Purpose

The GSA is requesting the Office of Management and Budget (OMB) to approve information collection, 3090-0400, concerning Application for Shipping Instructions and Notice of Availability. This information collection supports and justifies the markup of the six percent surcharge for the GSA export reimbursable program. It also is used to evaluate and obtain the best cube utilization of shipping vans and containers for export direct delivery shipments. The form contains data necessary to prepare Transportation Control and Movement Documents (TCMD) which are required when material enters the Defense Transportation System.

B. Annual Reporting Burden

Respondents: 360; Annual responses: 3,000; average hours per response: .20; burden hours: 1,000.

Copy of Proposal

A copy of this proposal may be obtained from the GSA Acquisition Policy Division (MVP), Room 4011, GSA Building, 1800 F Street NW., Washington, DC 20405, or by telephoning (202) 501-3822, or by faxing your request to (202) 501-3341.

Dated: November 15, 2000.
David A. Drabkin,
Deputy Associate Administrator, Office of Acquisition Policy.

[FR Doc. 00-29850 Filed 11-21-00; 8:45 am]

BILLING CODE 6820-61-M